DEPARTMENT of DEFENSE

Department of the Air Force

Notice of Availability (NOA) of the Record of Decision (ROD) for the Termination of the Air Force Mission at Johnston Atoll Airfield

SUMMARY: Pursuant to the National Environmental Policy Act (NEPA) of 1969, as amended (42 United States Code 4321, et seq.), the Council on Environmental Quality Regulations for implementing the procedural provisions of NEPA (40 Code of Federal Regulations (CFR) parts 1500-1508), and Air Force's Environmental Impact Analysis Process as implemented by 32 CFR part 989, the United States Air Force (Air Force) is issuing this notice to advise the public of the availability of the signed ROD documenting the decision of the Air Force to terminate the Air Force Mission at Johnston Atoll Airfield. The ROD is based upon the Final Environmental Impact Statement (FEIS), Termination of the Air Force Mission at Johnston Atoll Airfield (made available in the Federal Register: Volume 69, Number 108, Page 31613-31614). The Air Force decision was made after considering the potential environmental consequences of the Proposed Action and No-Action alternative as analyzed in the FEIS, and inputs from regulatory agencies and the public.

SUPPLEMENTARY INFORMATION: Copies of the ROD have been sent to all recipients of the FEIS. Copies of the ROD are also available for examination at the following libraries:

University of Hawaii Hamilton Library, Government Documents Section, 2550 The Mall, Honolulu, HI.

Hawaii State Library, Hawaii Documents Section, 478 South King St., Honolulu, HI.

Pacific Islands Contact Office, U.S. EPA, Region 9, PJKK Federal Building, 300 Ala Moana Blvd., Room 5-152 Honolulu, HI.

ADDRESSES: For further information or to obtain a copy of the ROD, please contact Mr. Rich Parkinson, 15 CES/CEV, 75 H Street, Building 1204, Hickam Air Force Base, HI, 96853-5233, By fax: (808) 448-0247, or by e-mail at Richard.Parkinson@hickam.af.mil.

Albert F. Bodnar,
Air Force Federal Register Liaison Officer.

[FR Doc. 05-5689 Filed 3-22-05; 8:45 am]

BILLING CODE 5001-05-P